FEDERAL HOUSING FINANCE AGENCY

12 CFR Part 1231

RIN 2590-AA08

Golden Parachute Payments

AGENCY: Federal Housing Finance Agency.

ACTION: Correcting amendments.

SUMMARY: The Federal Housing Finance Agency has determined, insofar as it relates to indemnification payments, to rescind that portion of the Interim Final Rule, published in the Federal Register on September 16, 2008 (73 FR 53356). That portion of the rule will be subject to a separate rulemaking, which will be published for public comment in the near term. Insofar as the Interim Final Rule addresses factors related to golden parachute payments, that portion of the rule remains effective and available for comment. This document corrects specific provisions in the rule referring to indemnification payments.

DATES: Effective Date: September 23, 2008.

FOR FURTHER INFORMATION CONTACT: Alfred M. Pollard, General Counsel (OFHEO), telephone (202) 414-3788; or Christopher Curtis, General Counsel (FHFB), telephone (202) 408-2802 (not toll-free numbers), Federal Housing Finance Agency, Fourth Floor, 1700 G Street, NW., Washington, DC 20552. The telephone number for the Telecommunications Device for the Deaf is (800) 877-8339.

Need for Correction

As published on September 16, 2008, and on September 19, 2008, the interim final regulation contained clerical and other errors, which these amendments correct.

List of Subjects in 12 CFR Part 1231

Golden parachutes, Government-sponsored enterprises.

Accordingly, part 1231 of Title 12 CFR Chapter XII is corrected by making the following correcting amendments:

PART 1231—GOLDEN PARACHUTE PAYMENTS

1. The authority citation for part 1231 continues to read as follows:

Authority: 12 U.S.C. 4518(e).

2. Section 1231.1 is revised to read as follows:

§ 1231.1 Purpose.

The purpose of this part is to implement section 1318(e) of the Act by setting forth the standards that the Director will take into consideration in determining whether to limit or prohibit golden parachute payments to entity-affiliated parties.

3. Section 1231.5 is amended by revising the introductory text and paragraph (f) to read as follows:

§ 1231.5 Factors to be taken into account.

In determining whether to prohibit or limit any golden parachute payment, the Director shall consider the following factors—

* * * * *

(f) Any other factor the Director determines relevant to the facts and circumstances surrounding the golden parachute payment, including but not limited to negligence, gross negligence, neglect, willful misconduct, breach of fiduciary duty, and malfeasance on the part of an entity-affiliated party.

Dated: September 18, 2008.
James B. Lockhart III,
Director, Federal Housing Finance Agency.

[FR Doc. E8-22260 Filed 9-19-08; 11:15 am]

BILLING CODE 8070-01-P